NUCLEAR REGULATORY COMMISSION

[IA-14-025; NRC-2012-0216]

In the Matter of James Chaisson

AGENCY: Nuclear Regulatory Commission.

ACTION: Order; Issuance.

SUMMARY: The U.S. Nuclear Regulatory Commission (NRC) is issuing a Prohibition Order to Mr. James Chaisson as a result of his failure to complete the agreed upon actions issued in the Confirmatory Order dated September 10, 2012. The Order will prohibit the individual from engaging in NRC-licensed activities for a minimum period of three years from its effective date, and continuing thereafter until he can provide NRC with reasonable assurance that he can safely use radioactive materials in accordance with NRC requirements. The Order also requires Mr. Chaisson complete training requirements, verbally attest to the corrective actions he has taken, and for a two-year period after the NRC notifies Mr. Chaisson of its reasonable assurance determination, he must notify NRC Region IV about his employment with NRC licensee or work in NRC jurisdiction in writing.

DATES: Effective Date: See attachment.

ADDRESSES: Please refer to Docket ID NRC-2012-0216 when contacting the NRC about the availability of information regarding this document. You may access publicly-available information related to this action by the following methods:

• Federal Rulemaking Web site: Go to http://www.regulations.gov and search for Docket ID NRC-2012-0216. Address questions about NRC dockets to Carol Gallagher; telephone: 301-287-3422; email: Carol.Gallagher@nrc.gov.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Susanne Woods, U.S. Nuclear Regulatory Commission, Washington, DC 20555-0001; telephone: 301-415-2740, email: s.woods@nrc.gov.

SUPPLEMENTARY INFORMATION: The text of the Order is attached.

Dated at Rockville, Maryland, this 11th day of July 2014.
For the Nuclear Regulatory Commission.
Patricia K. Holahan,
Acting Director, Office of Enforcement.

Attachment—Order Prohibiting Involvement in NRC Licensed Activities

I.

Mr. James Chaisson was employed from April 10, 2009, through April 30, 2010, as an area supervisor and lead radiographer for the Wyoming operations of Texas Gamma Ray, LLC (TGR or Licensee), whose corporate offices are located in Pasadena, Texas. TGR is the former holder of License No. 42-29303-01, issued on January 6, 2009, by the U.S. Nuclear Regulatory Commission (NRC or the Commission), pursuant to 10 CFR Part 34. The license authorized industrial radiographic operations in accordance with conditions specified therein. The license was terminated at the licensee's request on July 25, 2011.

On May 15, 2012, the NRC issued an Order, “Order Prohibiting Involvement in NRC-Licensed Activities” (IA-12-009), to Mr. Chaisson, which required, in part, that Mr. Chaisson be prohibited from engaging in NRC-licensed activities for a 3-year period. The NRC issued the Order to Mr. Chaisson after concluding that he engaged in deliberate misconduct in violation of 10 CFR 30.10(a)(1). Specifically, the NRC concluded that Mr. Chaisson chose to store a radiographic exposure device at a facility he knew did not comply with applicable NRC security requirements and was not an authorized storage location under TGR's license. These violations occurred while Mr. Chaisson was employed by TGR as the area supervisor and lead radiographer for its Wyoming operations. Mr. Chaisson's deliberate misconduct caused TGR to be in violation of License No. 42-29303-01, License Condition 19, which required increased control security requirements pertaining to the use, storage, and protection of licensed material, and License Condition 11, which required TGR to limit the storage of radioactive material authorized by its license to temporary job sites in NRC jurisdiction.

In response to the Order, Mr. Chaisson requested Alternative Dispute Resolution (ADR) and signed the Agreement to Mediate on June 13, 2012. An ADR mediation session was conducted on July 26, 2012, in Salt Lake City, Utah. During that ADR session, Mr. Chaisson signed the Agreement in Principal that was reached with the NRC, in which he agreed to terms and conditions to be memorialized in a Confirmatory Order.

A Confirmatory Order based on the Agreement in Principal was issued to Mr. Chaisson on September 10, 2012. The Confirmatory Order prohibited Mr. Chaisson from engaging in NRC-licensed activities for an 18-month period from the date of the Confirmatory Order. The Confirmatory Order required that the 18-month period be followed by a 4-year restriction from acting in any supervisory capacity while working in NRC jurisdiction, and a 4-year period in which Mr. Chaisson was to notify the NRC of his employment with NRC licensees and his employment with Agreement State licensees performing work in NRC jurisdiction. The Confirmatory Order also required that for 5½ years from the date of the Confirmatory Order, Mr. Chaisson make the Confirmatory Order available to his employers who are NRC licensees, including Agreement State licensees who perform work in NRC's jurisdiction under reciprocity. In addition, the Confirmatory Order required Mr. Chaisson to complete a 40-hour formal training course designed for qualifying radiation safety officers and a 40-hour formal training course that meets or exceeds the requirement in 10 CFR 34.43, “Training,” within 18 months of the date of the Confirmatory Order. Finally, Mr. Chaisson was to submit an article to Region IV, Director, Division of Nuclear Materials Safety, within 18 months of the date of the Confirmatory Order, articulating the importance of compliance with NRC regulations and providing full and accurate information.

II.

On March 28, 2014, Mr. Chaisson contacted the NRC to determine what type of training would be acceptable to meet the requirements of the Confirmatory Order. Mr. Chaisson informed the NRC that he had provided a copy of the Confirmatory Order to his employer, but did not provide the employer's name. During a March 31, 2014, telephone call between Mr. Chaisson and the Region IV staff, Mr. Chaisson revealed that he was working for Paramount NDT, a radiography company licensed by the State of North Dakota. Mr. Chaisson indicated that he was hired to set and develop film, as well as to read and interpret film. Mr. Chaisson acknowledged that in addition to not completing the training courses as required by the Confirmatory Order, he had not written the required article. The NRC informed Mr. Chaisson that, as several conditions of the Confirmatory Order were to be completed no later than March 10, 2014, he was in violation of the Confirmatory Order.

By letter dated March 31, 2014, Mr. Chaisson requested that the NRC grant him a 6-month extension to fulfill the requirements of the Confirmatory Order. Mr. Chaisson stated in the letter that he was unable to complete the requirements of the Confirmatory Order due to his unemployment from May 1 through December 31, 2013.

On April 7, 2014, the NRC contacted the Agreement State Director for the State of North Dakota Department of Health and confirmed that Paramount NDT is a North Dakota licensee authorized to conduct radiographic operations in the State of North Dakota. During a follow up conversation on April 9, 2014, the Agreement State Director informed the NRC that Paramount NDT did not receive a copy of the Confirmatory Order from Mr. Chaisson prior to his starting work with the company, as Mr. Chaisson had expressed he had done so to the NRC. Since Paramount NDT was not performing licensed activities in NRC jurisdiction, then Mr. Chaisson was not required to provide a copy of the Confirmatory Order to his employer.

On April 7, 2014, the NRC contacted the training consultant that Mr. Chaisson mentioned he was planning to use. The training consultant stated that, approximately 2 weeks previously, Mr. Chaisson requested information on, and expressed interest in, attending training courses to meet the requirements of the Confirmatory Order. However, Mr. Chaisson did not follow up to register for the training courses.

In Mr. Chaisson's extension request letter dated March 31, 2014, he stated that he had been without a job from May 1, 2013 until December 3, 2013. However, the NRC noted the following: (1) During the 18-month requirement to complete the training, Mr. Chaisson was unemployed for only 8 months of that time, (2) there was no monetary cost for Mr. Chaisson to write an article and mail the article to the NRC within the 18-month period, and (3) Mr. Chaisson waited until after these respective requirements of the Confirmatory Order had expired to contact the NRC and attempt to begin the training courses and write the article. The NRC has concluded that Mr. Chaisson has not upheld his agreement, which was made legally-binding in the September 10, 2012, Confirmatory Order. As a result, the NRC has serious concerns regarding Mr. Chaisson's willingness to follow NRC requirements.

The NRC determined that contrary to the requirements of the Confirmatory Order, Mr. Chaisson failed to complete a 40-hour formal training course designed for qualifying radiation safety officers and a 40-hour formal training course that meets or exceeds the requirement in 10 CFR 34.43, “Training,” within 18 months of the date of the Confirmatory Order. In addition, Mr. Chaisson failed to submit an article to Region IV, Director, Division of Nuclear Materials Safety, within 18-months of the date of the Confirmatory Order, articulating the importance of compliance with NRC regulations and providing full and accurate information. As a result, the NRC finds that Mr. Chaisson's actions constitute a violation of NRC requirements.

III.

The NRC must be able to rely on licensees, their contractors, and their employees to act with integrity and to comply with NRC requirements. Several conditions of the Confirmatory Order, which were agreed to by Mr. Chaisson through ADR, were required to be completed by March 10, 2014. By not complying with these conditions of the Confirmatory Order, Mr. Chaisson has demonstrated that he has little regard for the NRC and its regulations.

Based on the deliberate misconduct on which the May 15, 2012, Order was based, and Mr. Chaisson's violation of the September 10, 2012, Confirmatory Order, I lack the requisite reasonable assurance that Mr. Chaisson can be relied upon, at this time, to comply with the Commission's requirements and that the health and safety of the public will be protected if Mr. Chaisson were permitted at this time to be involved in NRC-licensed activities. Therefore, based on these circumstances, the public health, safety and interest require that NRC issue Mr. Chaisson this Order, which supersedes the previously issued Confirmatory Order, dated September 10, 2012. This Order requires that Mr. Chaisson be prohibited from any involvement in NRC-licensed activities for a minimum period of 3 years from the effective date of this Order, and continuing thereafter until he can provide NRC with reasonable assurance that he can safely use radioactive materials in accordance with NRC requirements.

IV.

Accordingly, pursuant to Sections 81, 161b, 161i, 161o, 182, and 186 of the Atomic Energy Act of 1954, as amended, and the Commission's regulations in 10 CFR 2.202, and 10 CFR Parts 20, 30 and 34, it is hereby ordered, effective thirty (30) days from the date of issuance of this order that:

1. Mr. James Chaisson is prohibited from engaging in NRC-licensed activities for a minimum of 3 years following the effective date of this Order, and continuing thereafter until he provides the NRC with reasonable assurance that he can safely use radioactive materials in accordance with NRC requirements (as described in Section IV.3 below). NRC-licensed activities are those activities that are conducted pursuant to a specific or general license issued by the NRC, including, but not limited to, those activities of Agreement State licensees conducted in NRC's jurisdiction pursuant to the authority granted by 10 CFR 150.20. This means that until he provides the NRC with reasonable assurance, Mr. Chaisson is prohibited from performing, supervising, assisting or otherwise engaging in (1) industrial radiographic operations for an NRC licensee including but not limited to, radiography conducted under the authority of a license issued pursuant to 10 CFR Part 34; (2) industrial radiographic operations in NRC jurisdiction for an Agreement State licensee that are conducted under a general license pursuant to 10 CFR 150.20; and (3) any other licensed activity in NRC jurisdiction. This Order will supersede the Confirmatory Order previously issued to Mr. Chaisson dated September 10, 2012 (ADAMS Accession No. ML12256B002).

2. If Mr. Chaisson is currently involved in any NRC-licensed activities, then he must cease those activities no later than the effective date of this Order, and inform the NRC of the name, address, and telephone number of the employer, and provide a copy of this Order to the employer.

3. Mr. Chaisson may, 3 years after the effective date of this Order, file a written request with the Director of the NRC Office of Enforcement that this Order be rescinded based upon his establishing and representing to the NRC reasonable assurance that he can safely use radioactive material in accordance with NRC requirements. As a means to demonstrate reasonable assurance, Mr. Chaisson should satisfactorily complete the following conditions to attest to his understanding and commitment of compliance with NRC requirements and regulations. Mr. Chaisson may provide alternatives to the NRC for evaluation and approval, in order to establish and represent to the NRC reasonable assurance that he can safely use radioactive material in accordance with NRC requirements.

a. In addition to the training and qualification requirements set forth in 10 CFR Part 20, Part 30 and Part 34 for the use of byproduct material and radiation safety requirements for using byproduct materials, Mr. Chaisson shall provide documentation showing that he has successfully completed a 40-hour formal training course designed for qualifying radiation safety officers. The formal training course should be presented by an academic institution, commercial radiation safety consulting company, or a professional organization of radiation protection experts. The course must also include training on the requirements pertaining to the NRC Order Imposing Increased Controls (ADAMS Accession No. ML053130364) or the regulations under 10 CFR Part 37, “Physical Protection of Category 1 and Category 2 Quantities of Radioactive Material”, or else Mr. Chaisson must provide documentation showing that he has successfully completed a separate course that includes these Increased Controls or Part 37 requirements. In addition, Mr. Chaisson shall provide documentation showing that he has successfully completed a 40-hour formal training course for Non-Destructive Testing that meets or exceeds the requirements in 10 CFR 34.43, “Training.” All training documentation presented to the NRC shall include the training dates, course syllabi, and instructor qualifications. All training documentation must verify that the training took place after the date of issuance of this Order.

b. Mr. Chaisson shall demonstrate his understanding of the importance of the NRC regulations related to the protection of public health and safety or the common defense and security during a transcribed meeting with NRC representatives, where he can verbally attest to his knowledge of the requirements and regulations under 10 CFR Part 20, Part 30, Part 34, and either, the Increased Controls Order or the requirements under 10 CFR Part 37. In addition at that meeting, he shall verbally attest to the corrective actions he has taken to address his deliberate misconduct which occurred while employed from April 10, 2009, through April 30, 2010, as a former area supervisor and former lead radiographer for the Wyoming operations of Texas Gamma Ray, LLC. This will include his understanding of: (1) The purpose of the safety and security requirements for industrial radiography, (2) his role and responsibilities regarding performing activities in accordance with the requirements and regulations, (3) the importance of providing full and accurate information to the NRC, and (4) the corrective actions he has taken to address his deliberate misconduct as described above.

c. If Mr. Chaisson seeks rescission of this Order pursuant to Section IV.3, then the information required by Section IV.3.(a) shall be provided to the Director, Office of Enforcement, U.S. Nuclear Regulatory Commission, Washington, DC 20555-0001, with a copy to the Regional Administrator, Region IV, 1600 E. Lamar Blvd., Arlington, TX 76011-4511. Mr. Chaisson must also request from the Director, Office of Enforcement and the Regional Administrator, NRC Region IV, to meet with the NRC, in accordance with Section IV.3.(b) of this Order.

4. If, after considering the conditions in Section IV.3 of this Order, the NRC determines that Mr. Chaisson has sufficiently demonstrated his understanding and commitment to compliance with NRC requirements and regulations such that reasonable assurance exists:

a. For a 2-year period after NRC notifies Mr. Chaisson in writing of its reasonable assurance determination, Mr. Chaisson must notify NRC Region IV of any employment with an NRC licensee, within 3 days of each acceptance of employment with each NRC licensee. Mr. Chaisson will provide this notification in writing to the attention of the Director, Division of Nuclear Materials Safety; U.S. Nuclear Regulatory Commission, Region IV, 1600 E. Lamar Blvd., Arlington, Texas 76011-4511, or by fax number to 817-200-1188.

b. For a 2-year period after NRC notifies Mr. Chaisson in writing of its reasonable assurance determination, in the situation where Mr. Chaisson works for an Agreement State licensee that provides notification to perform work in NRC jurisdiction, Mr. Chaisson shall notify NRC Region IV at least 3 days prior to working in NRC jurisdiction. The notification will be for each occurrence of working in NRC's jurisdiction, and will include the dates and specific location where he will be conducting NRC licensed activities. Mr. Chaisson will provide this notification in writing to the attention of the Director, Division of Nuclear Materials Safety; U.S. Nuclear Regulatory Commission, Region IV, 1600 E. Lamar Blvd., Arlington, Texas 76011-4511, or by fax number to 817-200-1188. Mr. Chaisson's notification must be independent of any notification required by the licensee pursuant to 10 CFR 150.20.

c. For a 2-year period after NRC notifies Mr. Chaisson in writing of its reasonable assurance determination, Mr. Chaisson is prohibited from working for any NRC licensee as an Area Supervisor, Radiation Safety Officer, or in any other supervisory position (excluding radiographer) while in NRC jurisdiction. This includes the situation where Mr. Chaisson works for an Agreement State licensee performing work in NRC jurisdiction under reciprocity.

d. In order to ensure NRC licensees are aware of the limitations on Mr. Chaisson's NRC licensed activities, from the effective date of this Prohibition Order until 2 years after the NRC notifies Mr. Chaisson in writing of its reasonable assurance determination, Mr. Chaisson must provide, at least 3 days prior to starting work, a copy of this Order to employers who are NRC licensees. This includes Agreement State licensees who may potentially perform work in NRC's jurisdiction pursuant to 10 CFR 150.20.

The provisions of Section IV are effective 30 days from the date of issuance of this Order. The Director, Office of Enforcement, or designee, may, in writing, relax or rescind any of the above conditions upon demonstration by Mr. Chaisson of good cause.

V.

In accordance with 10 CFR 2.202, Mr. James Chaisson must submit a written answer to this Order under oath or affirmation within 30 days of its issuance. Mr. Chaisson's failure to respond to this Order could result in additional enforcement action in accordance with the Commission's Enforcement Policy. Any person adversely affected by this Order may submit a written answer to this Order within 30 days of its issuance. In addition, Mr. Chaisson may demand, and any other person adversely affected by this Order may request, a hearing on this Order within 30 days of its issuance. Where good cause is shown, consideration will be given to extending the time to answer and demand or request a hearing. A request for extension of time must be made in writing to the Director, Office of Enforcement, U.S. Nuclear Regulatory Commission, Washington, DC 20555-0001, and include a statement of good cause for the extension.

All documents filed in NRC adjudicatory proceedings, including a demand or request for hearing, a petition for leave to intervene, any motion or other document filed in the proceeding prior to the submission of a demand or request for hearing or petition to intervene, and documents filed by interested governmental entities participating under 10 CFR 2.315(c), must be filed in accordance with the NRC E-Filing rule (72 FR 49139, August 28, 2007, as amended by 77 FR 46562, August 3, 2012), codified in pertinent part at 10 CFR Part 2, Subpart C. The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at (301) 415-1677, to request (1) a digital ID certificate, which allows the participant (or its counsel or representative) to digitally sign documents and access the E-Submittal server for any proceeding in which it is participating; and (2) advise the Secretary that the participant will be submitting a demand or request, or a petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals.html. System requirements for accessing the E-Submittal server are detailed in NRC's “Guidance for Electronic Submission,” which is available on the agency's public Web site at http://www.nrc.gov/site-help/e-submittals.html, under “Getting Started,” then select “Reference Materials for Electronic Submissions.” Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange (EIE), users will be required to install a Web browser plug-in obtained from the NRC Web site. Further information on the Web-based submission form, including the installation of the Web browser plug-in, is available on the NRC's public Web site at http://www.nrc.gov/site-help/e-submittals.html.

After the Office of the Secretary has created a docket and a participant has obtained a digital ID certificate, then the participant may submit a demand for hearing or request for hearing or petition for leave to intervene through the EIE. Submissions should be in Portable Document Format (PDF) in accordance with NRC guidance available on the NRC public Web site at http://www.nrc.gov/site-help/e-submittals.html. A filing is considered complete at the time the documents are submitted through the NRC E-Filing system. To be timely, an electronic filing must be submitted to the E-Filing system no later than 11:59 p.m. Eastern Time (ET) on the due date. Upon receipt of a transmission, the E-Filing system time-stamps the document and sends the submitter an email notice confirming receipt of the document. The E-Filing system also distributes an email notice that provides access to the document to the NRC Office of the General Counsel and other persons who have advised the Office of the Secretary that they wish to participate in the proceeding. The filer need not serve the documents on participants separately. Therefore, any others who wish to participate in the proceeding (or their counsel or representative) must apply for and receive a digital ID certificate before a hearing demand or request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email at MSHD.Resource@nrc.gov, or by a toll-free call at (866) 672-7640. The NRC Meta System Help Desk is available between 8 a.m. and 8 p.m., ET, Monday through Friday, excluding government holidays.

Participants who believe they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-filing no longer exists.

Documents submitted in adjudicatory proceedings will appear in the NRC's electronic hearing docket, which is available to the public at http://ehd1.nrc.gov/ehd/, unless excluded pursuant to an order of the Commission or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, participants are requested not to include copyrighted materials in their submission, except for limited excerpts that serve the purpose of the adjudicatory filings and constitute a Fair Use application.

If a person other than Mr. Chaisson requests a hearing, that person shall set forth with particularity the manner in which his or her interest is adversely affected by this Order and shall address the criteria set forth in 10 CFR 2.309(d) and (f).

If a hearing is demanded by Mr. Chaisson or requested by a person whose interest is adversely affected, the Commission will issue an Order designating the time and place of any hearings. If a hearing is held, the issue to be considered at such hearing shall be whether this Order should be sustained. In the absence of any demand or request for hearing, or written approval of an extension of time in which to demand or request a hearing, the provisions specified in Section IV above shall be effective and final 30 days after the date of issuance of this Order, without further order or proceedings. If an extension of time for demanding or requesting a hearing has been approved, the provisions specified in Section IV shall be final when the extension expires if a hearing demand or request has not been received.

Dated at Rockville, Maryland, this 11th day of July 2014.
For the Nuclear Regulatory Commission.
Patricia K. Holahan,
Acting Director, Office of Enforcement.

[FR Doc. 2014-16964 Filed 7-17-14; 8:45 am]

BILLING CODE 7590-01-P